DEPARTMENT OF TRANSPORTATION

Maritime Administration

[Docket No. MARAD-2006-23838]

Information Collection Available for Public Comments and Recommendations

ACTION: Notice and request for comments.

SUMMARY: In accordance with the Paperwork Reduction Act of 1995, this notice announces the Maritime Administration's (MARAD's) intention to request extension of approval for three years of a currently approved information collection.

DATES: Comments should be submitted on or before April 10, 2006.

FOR FURTHER INFORMATION CONTACT: Taylor E. Jones II, Maritime Administration, 400 Seventh St., SW., Washington, DC 20590. Telephone: 202-366-3423; FAX: 202-366-3128, or E-mail: taylor.jones@dot.gov. Copies of this collection also can be obtained from that office.

SUPPLEMENTARY INFORMATION:

Title of Collection: Request for Transfer of Ownership, Registry, and Flag, or Charter, Lease, or Mortgage of U.S. Citizen-Owned Documented Vessels.

Type of Request: Extension of currently approved information collection.

OMB Control Number: 2133-0006.

Form Numbers: MA-29, MA-29A, and MA-29B.

Expiration Date of Approval: Three years from date of approval.

Summary of Collection of Information: This collection provides information necessary for MARAD to approve the sale, transfer, charter, lease, or mortgage of U.S. documented vessels to non-citizens; or the transfer of such vessels to foreign registry and flag; or the transfer of foreign flag vessels by their owners as required by various contractual requirements.

Need and Use of the Information: The information will enable MARAD to determine whether the vessel proposed for transfer will initially require retention under the U.S.-flag statutory regulations.

Description of Respondents: Respondents are vessel owners who have applied for foreign transfer of U.S.-flag vessels.

Annual Responses: 100 responses.

Annual Burden: 200 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

Authority: 49 CFR 1.66.

By order of the Maritime Administrator.
Dated: February 2, 2006.
Joel C. Richard,
Secretary, Maritime Administration.

[FR Doc. E6-1680 Filed 2-7-06; 8:45 am]

BILLING CODE 4910-81-P